DEPARTMENT OF TRANSPORTATION

Office of the Secretary

[Order 2000-2-14; Docket OST-99-6499]

Application of Spernak Airways, Inc. for Certificate Authority

AGENCY: Department of Transportation.

ACTION: Notice of Order to Show Cause.

SUMMARY: The Department of Transportation is directing all interested persons to show cause why it should not issue an order finding Spernak Airways, Inc., fit, willing, and able, and awarding it a certificate of public convenience and necessity to engage in interstate scheduled air transportation of persons, property and mail.

DATES: Persons wishing to file objections should do so no later than February 24, 2000.

ADDRESSES: Objections and answers to objections should be filed in Docket OST-99-6499 and addressed to the Department of Transportation Dockets (SVC-124.1, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: February 10, 2000.
A. Bradley Mims,
Deputy Assistant Secretary for Aviation and International Affairs.

[FR Doc. 00-3800 Filed 2-16-00; 8:45 am]

BILLING CODE 4910-62-P